FEDERAL ELECTION COMMISSION

Sunshine Act Notices

AGENCY: Federal Election Commission.

Previously Announced Date And Time: Tuesday, September 17, 2002, meeting closed to the public. This meeting was cancelled.

Previously Announced Date And Time: Thursday, September 19, 2002, meeting open to the public. This meeting was cancelled. The Final Audit Report on Quayle 2000, Inc. and Quayle 2000 Compliance Committee has been withdrawn.

Date And Time: Tuesday, September 24, 2002 at 10 a.m.

Place: 999 E Street, NW., Washington, DC.

Status: This meeting will be closed to the public.

Items to be Discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

Date And Time: Thursday, September 26, 2002 at 10 a.m.

Place: 999 E Street, NW., Washington, DC (Ninth Floor).

Status: This meeting will be open to the public.

Items to be Discussed: Correction and Approval of Minutes.

Final Audit Report—Reform Party 2000 Convention Committee.

Final Rules on Electioneering Communications.

Routine Administrative Matters.

FOR MORE INFORMATION CONTACT: Mr. Ron Harris, Press Officer, Telephone: (202) 694-1220.

Mary W. Dove,
Secretary of the Commission.

[FR Doc. 02-23939 Filed 9-17-02; 11:41 am]

BILLING CODE 6715-01-M